DEPARTMENT OF TRANSPORTATION

[Docket No. DOT-OST-2018-0044]

Notice of Proposed Agency Information Collection Activities; Agency Request To Modify Existing Information Collections: Railroad Rehabilitation and Improvement Financing (RRIF) and Transportation Infrastructure Financing and Innovation Act (TIFIA) Credit Programs

AGENCY: Office of the Secretary, Department of Transportation.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published May 21, 2018, and the comment period ended July 20, 2018. One comment unrelated to the ICR was submitted into the docket.

DATES: Written comments should be submitted by August 27, 2018.

ADDRESSES: Written comments should be submitted to the attention of the DOT/OST Desk Officer, Office of Information and Regulatory Affairs, Office of Management and Budget, Docket Library, Room 10102, 725 17th Street NW, Washington, DC 20503 or by email at OIRA_submission@omb.eop.gov with the associated OMB Control Number 2105-0569.

FOR FURTHER INFORMATION CONTACT: Kylie Cannon at Kylie.Cannon@dot.gov or (202) 366-2731; or the Build America Bureau at BuildAmerica@dot.gov or (202) 366-2300.

SUPPLEMENTARY INFORMATION: OMB Control Number: 2105-0569.

Title: Letter of Interest and Application Forms for the Railroad Rehabilitation and Improvement Financing and Transportation Infrastructure Financing and Innovation Act Credit Programs.

Type of Review: Modification of existing information collections.

Abstract: The Department of Transportation (the Department) has submitted an ICR to OMB to approve modifications to two currently approved ICRs. As part of the modifications to the ICRs, one ICR will be integrated into the other ICR. The modified and integrated ICR will be used to allow entities to apply for Railroad Rehabilitation and Improvement Financing (RRIF) and Transportation Infrastructure Financing and Innovation Act (TIFIA) credit assistance using a common set of forms, rather than having a separate set of forms for each of RRIF and TIFIA. The new, integrated forms have also been updated to reflect changes in law, streamlining of the credit programs, and efficiencies in the application process adopted by the Department. However, the general process of applying for credit assistance is not changing; applications are still accepted on a rolling basis. The ICR continues to be necessary for the Department to evaluate projects and project sponsors for credit program eligibility and creditworthiness as required by law.

Respondents: State and local governments, transit agencies, government-sponsored authorities, special authorities, special districts, ports, private railroads, and certain other private entities.

Estimated Total Annual Number of Responses: Eight (8) RRIF letters of interest (LOIs), twelve (12) TIFIA LOIs, eight (8) RRIF applications, and twelve (12) TIFIA applications.

Estimated Total Annual Burden Hours: For RRIF LOIs and applications, 960 hours; for TIFIA LOIs and applications 1,440 hours.

The estimated burdens are itemized in the following table:

A. Type of response | B. Number of responses | C. Hours per response | D. Total hours (column B × column C)
RRIF LOI | 8 | 20 | 160
RRIF Application | 8 | 100 | 800
TIFIA LOI | 12 | 20 | 240
TIFIA Application | 12 | 100 | 1200

Frequency of Collection: One time.

Comments on the following subjects: (a) The need for the proposed collection of information for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including the use of appropriate automated, electronic, mechanical, or other technological collection techniques.

Authority: The Paperwork Reduction Act of 1995; 44 U.S.C. Chapter 35, as amended; and 49 CFR 1.48.

Issued in Washington, DC, on July 23, 2018.
Jenny Barket,
Attorney Advisor.

[FR Doc. 2018-15961 Filed 7-25-18; 8:45 am]

BILLING CODE 4910-22-P